DEPARTMENT OF COMMERCE

National Oceanic and Atmospheric Administration

50 CFR Part 648

[Docket No. 220502-0109]

[TID 0648-XC191]

Fisheries of the Northeastern United States; Atlantic Mackerel, Squid, and Butterfish Fishery; 2022 Longfin Squid Trimester II Quota Harvested

AGENCY: National Marine Fisheries Service (NMFS), National Oceanic and Atmospheric Administration (NOAA), Commerce.

ACTION: Temporary rule; reduction of possession limit.

SUMMARY: Beginning August 5, 2022, and ending August 31, 2022, Federal longfin squid vessel permit holders are prohibited from fishing for, catching, possessing, transferring, or landing more than 250 lb (113.3 kg) of longfin squid per trip and landing such squid more than once per calendar day. This prohibition is required by regulation because NMFS projects that 90 percent of the 2022 annual Trimester II seasonal catch limit will have been caught by the effective date. In addition, based on this determination, other restrictions regarding catch of longfin squid by federally permitted Illex squid vessels and buying longfin squid by federally permit dealers go into place. This action is intended to prevent overharvest of longfin squid during Trimester II.

DATES: Effective 0001 hr local time, August 5, 2022, through August 31, 2022.

FOR FURTHER INFORMATION CONTACT: Aly Pitts, Fishery Management Specialist, (978) 281-9352.

SUPPLEMENTARY INFORMATION: The regulations at 50 CFR part 648 require specifications for maximum sustainable yield, initial optimum yield, allowable biological catch (ABC), domestic annual harvest (DAH), domestic annual processing, joint venture processing, and total allowable levels of foreign fishing for the species managed under the Mackerel, Squid, and Butterfish Fishery Management Plan (FMP). The procedures for setting the annual initial specifications are described in § 648.22.

The 2022 longfin squid Trimester II quota was increased by 50 percent to account for the underage in the 2022 Trimester I catch. Trimester III quota for longfin squid will be available for harvest on September 1, 2022.

The regulations at § 648.24(a)(1) require that when the NMFS Administrator of the Greater Atlantic Region (Regional Administrator) projects longfin squid catch will reach 90 percent of the Trimester II quota designated in the Mackerel, Squid, and Butterfish FMP prior to August 15, NMFS must prohibit Federal longfin squid vessel permit holders from fishing for, catching, possessing, transferring, or landing more than 250 lb (113.3 kg) of longfin squid per trip and landing such squid more than once per calendar day for the remainder of the prohibition period. This type of prohibition effectively closes the directed squid fishery. The Regional Administrator monitors the longfin squid fishery catch in each trimester based on dealer reports, state data, and other available information. Upon the projection that 90 percent of a Trimester seasonal quota has been reached, NMFS must provide at least 72 hours of advance notice to the public that this determination has been made. NMFS also publishes in the Federal Register the date that the catch is projected to reach 90 percent of the quota, and the prohibitions on catch and landings for the remainder of Trimester II. In addition, upon this determination, vessels possessing a Tier 1 or 2 Federal Longfin Squid Moratorium permit that possesses 10,000 lb (4,536 kg) or more of Illex squid, fishing in the Illex Squid Exemption Area, as defined in Table 1 below and at § 648.23(a)(5), may possess up to 15,000 lb (6,803 kg) of longfin squid for a Tier 1 Longfin Squid Moratorium Permit and 5,000 lb (2,268 kg) for a Tier 2 Longfin Squid Moratorium Permit. If these vessels do not possess 10,000 lb (4.54 mt) of Illex squid, they are restricted to 250 lb (113.3 kg) of longfin squid. Once landward of the coordinates defining the Illex Squid Exemption Area, such vessels must stow all fishing gear, and render it not available for immediate use as defined in § 648.2, in order to possess more than 250 lb (113.3 kg) of longfin squid. Also, federally permitted dealers may not receive longfin squid from federally permitted longfin squid vessels that harvest more than 250 lb (113.3 kg) of longfin squid through 2400 hr local time, August 31, 2022, unless it is from a trip landed by a vessel that entered port before 0001 hr on the date of the closure, except that they may purchase up to 15,000 lb (6.80 mt) of longfin squid from permitted vessels on declared Illex squid trips fishing in the Illex Squid Exemption Area.

The Regional Administrator has determined, based on dealer reports and other available information, that the longfin squid fleet will catch 90 percent of the total longfin squid Trimester II quota for the 2022 seasonal period from May 1, 2022, through August 31, 2022, by August 5, 2022. Therefore, effective 0001 hr local time, August 5, 2022, federally permitted vessels may not fish for, catch, possess, transfer, or land more than 250 lb (113.3 kg) of longfin squid per trip and land such squid more than once per calendar day. In addition, vessels that have entered port before 0001 hr on August 5, 2022, may offload and sell more than 250 lb (113.3 kg) of longfin squid from that trip. Vessels possessing a Federal Tier 1 or 2 Longfin Squid Moratorium permit on directed Illex squid fishing trips (i.e., possess over 10,000 lb (4.54 mt) of Illex) that are fishing in the Illex Squid Exemption Area, as defined in Table 1 below and at § 648.23(a)(5), may possess only up to 15,000 lb (6,803 kg) of longfin squid for a Tier 1 Longfin Squid Moratorium Permit and 5,000 lb (2,268 kg) for a Tier 2 Longfin Squid Moratorium Permit. Once landward of the coordinates defining the Illex Squid Exemption Area, such vessels must stow all fishing gear, and render it not available for immediate use as defined in § 648.2, in order to possess more than 250 lb (113.3 kg) of longfin squid. Also, federally permitted dealers may not receive longfin squid from federally permitted longfin squid vessels that harvest more than 250 lb (113.3 kg) of longfin squid through 2400 hr local time, August 31, 2022, unless it is from a trip landed by a vessel that entered port before 0001 hr on August 5, 2022, except that they may purchase up to 15,000 lb (6.80 mt) of longfin squid from permitted vessels on declared Illex squid trips fishing in the Illex Squid Exemption Area.

Table 1—Illex Squid Exemption Area Coordinates
North latitude | West longitude
43°58.0′ | 67°22.0′
43°50.0′ | 68°35.0′
43°30.0′ | 69°40.0′
43°20.0′ | 70°00.0′
42°45.0′ | 70°10.0′
42°13.0′ | 69°55.0′
41°00.0′ | 69°00.0′
41°45.0′ | 68°15.0′
42°10.0′ | 67°10.0′
41°18.6′ | 66°24.8′
40°55.5′ | 66°38.0′
40°45.5′ | 68°00.0′
40°37.0′ | 68°00.0′
40°30.0′ | 69°00.0′
40°22.7′ | 69°00.0′
40°18.7′ | 69°40.0′
40°21.0′ | 71°03.0′
39°41.0′ | 72°32.0′
38°47.0′ | 73°11.0′
38°04.0′ | 74°06.0′
37°08.0′ | 74°46.0′
36°00.0′ | 74°52.0′
35°45.0′ | 74°53.0′
35°28.0′ | 74°52.0′

Classification

This action is required by 50 CFR part 648 and is exempt from review under Executive Order 12866.

NMFS finds good cause pursuant to 5 U.S.C. 553(b)(B) to waive prior notice and the opportunity for public comment because it would be contrary to the public interest and impracticable. The longfin squid Trimester II fishery opened for the 2022 fishing year on May 1, 2022. Data and other information indicating the longfin squid fleet will have landed at least 90 percent of the 2022 Trimester II quota have only recently become available. Landings data is updated on a weekly basis, and NMFS monitors catch data on a daily basis as catch increases toward the limit. Further, high-volume catch and landings in this fishery increases total catch relative to the quota quickly. The regulations at § 648.24(a)(1) require such action to ensure that longfin squid vessels do not exceed the 2022 Trimester II quota. If implementation of this action is delayed to solicit prior public comment, the quota for this Trimester II may be exceeded, thereby undermining the conservation objectives of the FMP. If quotas are exceeded, the excess must also be deducted from a future Trimester and would reduce future fishing opportunities. Also, the public had prior notice and full opportunity to comment on this process when these provisions were put in place. Based on these considerations, NMFS further finds, pursuant to 5 U.S.C. 553(d)(3), good cause to waive the 30-day delayed effectiveness period for the reasons stated above.

Authority: 16 U.S.C. 1801 et seq.

Dated: August 1, 2022.
Jennifer M. Wallace,
Acting Director, Office of Sustainable Fisheries, National Marine Fisheries Service.

[FR Doc. 2022-16751 Filed 8-1-22; 4:15 pm]

BILLING CODE 3510-22-P